DEPARTMENT OF COMMERCE

Bureau of Industry and Security

Order Temporarily Denying Export Privileges

ExHigh Air Space Ltd., Wilson Airport, United Complex, Third Floor Suite 1, Nairobi, Kenya

Geoffrey Chune Omariba, Wilson Airport, United Complex, Third Floor Suite 1, Nairobi, Kenya

Nader Ali Saboori Haghighi, Dalmatinska 65, Belgrade, Serbia

Pursuant to section 766.24 of the Export Administration Regulations, 15 CFR parts 730-774 (“EAR” or “the Regulations”),¹ the Bureau of Industry and Security (“BIS”), U.S. Department of Commerce, through its Office of Export Enforcement (“OEE”), has requested the issuance of an Order temporarily denying, for a period of 180 days, the export privileges under the Regulations of: ExHigh Air Space Ltd. (“ExHigh”), Geoffrey Chune Omariba (“Chune”), and Nader Ali Saboori Haghighi (“Haghighi”), (collectively, the “Respondents”). OEE's request and related information indicate that these parties are located in Nairobi, Kenya, and Belgrade, Serbia, at the respective addresses listed on the caption page of this order. OEE's request and related information further indicates that the Respondents have obtained, and continue to engage in attempts to obtain, controlled aircraft parts from the United States in order to divert those items to Russia contrary to the requirements of the Regulations.

¹ The Regulations, currently codified at 15 CFR parts 730-774 (2025), were originally issued pursuant to the Export Administration Act (50 U.S.C. 4601-4623 (Supp. III 2015) (“EAA”), which lapsed on August 21, 2001. The President, through Executive Order 13222 of August 17, 2001 (3 CFR, 2001 Comp. 783 (2002)), as extended by successive Presidential Notices, continued the Regulations in effect under the International Emergency Economic Powers Act (50 U.S.C. 1701, et seq. (2012)) (“IEEPA”). On August 13, 2018, the President signed into law the John S. McCain National Defense Authorization Act for Fiscal Year 2019, which includes the Export Control Reform Act of 2018, 50 U.S.C. 4801-4852 (“ECRA”). While section 1766 of ECRA repeals the provisions of the EAA (except for three sections which are inapplicable here), section 1768 of ECRA provides, in pertinent part, that all orders, rules, regulations, and other forms of administrative action that were made or issued under the EAA, including as continued in effect pursuant to IEEPA, and were in effect as of ECRA's date of enactment (August 13, 2018), shall continue in effect according to their terms until modified, superseded, set aside, or revoked through action undertaken pursuant to the authority provided under ECRA. Moreover, section 1761(a)(5) of ECRA authorizes the issuance of temporary denial orders.

I. Legal Standard

Pursuant to section 766.24, BIS may issue an order temporarily denying a respondent's export privileges upon a showing that the order is necessary in the public interest to prevent an “imminent violation” of the Regulations. 15 CFR 766.24(b)(1), 766.24(d). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that the violation under investigation or charge “is significant, deliberate, covert and/or likely to occur again, rather than technical or negligent[.]” Id. A “[l]ack of information establishing the precise time a violation may occur does not preclude a finding that a violation is imminent, so long as there is sufficient reason to believe the likelihood of a violation.” Id.

II. OEE's Request for a Temporary Denial Order (“TDO”)

The U.S. Commerce Department, through BIS, responded to the Russian Federation's (“Russia's”) further invasion of Ukraine by implementing a sweeping series of stringent export controls that severely restrict Russia's access to technologies and other items that it needs to sustain its aggressive military capabilities. These controls primarily target Russia's defense, aerospace, and maritime sectors and are intended to cut off Russia's access to vital technological inputs, atrophy key sectors of its industrial base, and undercut Russia's strategic ambitions to exert influence on the world stage.

Effective February 24, 2022, BIS imposed expansive controls on aviation-related (e.g., Commerce Control List Categories 7 and 9) items to Russia, including a license requirement for the export, reexport or transfer (in-country) to or within Russia of any aircraft or aircraft parts specified in Export Control Classification Number (“ECCN”) 9A991 (Section 746.8(a)(1) of the EAR).² BIS will review any export or reexport license applications for such items under a policy of denial. See section 746.8(b). Effective March 2, 2022, BIS excluded any aircraft registered in, owned, or controlled by, or under charter or lease by Russia or a national of Russia from being eligible for license exception Aircraft, Vessels, and Spacecraft (“AVS”). 15 CFR 746.8(c)(2)(v), 740.15(a)-(b).³

² 87 FR 12226 (Mar. 3, 2022). Additionally, BIS published a final rule effective April 8, 2022, which imposed licensing requirements on items controlled on the Commerce Control List (“CCL”) under Categories 0-2 that are destined for Russia or Belarus. Accordingly, now all CCL items require export, reexport, and transfer (in-country) licenses if destined for or within Russia or Belarus. 87 FR 22130 (Apr. 14, 2022).

³ 87 FR 13048 (Mar. 8, 2022).

OEE sought a TDO based on evidence indicating that the Respondents seek to procure various U.S.-origin commodities, including certain aircraft parts classified as ECCN 9A991 and those controlled for Missile Technology reasons classified as 7A103, and transship them to Russia without seeking the required authorization from BIS, contrary to the requirements in the Regulations. Respondents' transactions involved Denied Persons on the BIS Denied Persons List (“DPL”), which are parties prohibited from participating in exports from the United States, among other activities subject to the Regulations.

A. ExHigh, Chune, and Haghighi

Following the Russian invasion of Ukraine, and the resultant imposition of BIS export controls affecting the Russian aviation industry, Respondents engaged in a scheme to export, reexport, and transfer (in-country) aircraft parts to or within Russia, including to persons on the DPL, in circumvention of BIS export controls. In or around July 2022, ExHigh began submitting license applications to BIS for the export of Inertial Reference Units (“IRUs”),⁴ classified under ECCN 7A103, to ultimate consignees located in Kenya. However, IRUs exported under the authority of ExHigh's BIS licenses were instead exported to parties in Belgrade, Serbia, and ultimately diverted to Russia. In order to effectuate these exports, Respondents caused the submission of false and misleading Electronic Export Information (“EEI”), including EEI based on false information which Respondents submitted to U.S. freight forwarders.

⁴ An IRU is a component of an aircraft's navigational system that provides critical data such as position, attitude, and velocity of the aircraft.

Chune is the General Director of ExHigh and is listed on BIS export licenses as the point of contact for ExHigh. Haghighi is an owner of ExHigh and an Iranian national believed to currently reside in Belgrade, Serbia. Exhigh, through Chune and Haghighi, coordinated with an employee from JSC Ural Airlines (“Ural”) to transship items from the United States to Ural, located in Russia. Ural has been subject to a BIS TDO since October 2022, and accordingly, no person may export, reexport or transfer (in-country) any item subject to the EAR to or on behalf of Ural except as authorized by BIS.⁵ Specifically, correspondence between ExHigh and the Ural employee indicated that an IRU, supposedly destined for an aviation company based in Kenya, was in fact destined to Ural in Russia. Additional correspondence between ExHigh and a Ural employee detailed the diversion of several IRUs to Ural that Exhigh had ordered or sent for repair on behalf of Ural.

⁵ The order was signed on October 13, 2022, and was effective on that date. A copy was published in the Federal Register on October 19, 2022. 87 FR 63477 (October 19, 2022). The order has been renewed three times. 89 FR 81881 (October 9, 2024); 88 FR 70925 (October 13, 2023); 88 FR 22406 (April 13, 2023).

On or about July 31, 2023, additional correspondence from ExHigh to Ural indicated that ExHigh conducted deliveries of IRUs sourced from the United States to Ural at Domodedovo Airport in Moscow, Russia. OEE's investigation determined that one of Ural's aircraft line maintenance stations is located at Domodedovo Airport. These communications confirm ExHigh's delivery of a BIS export-controlled IRU to Ural in Russia, which was not the end-user reflected in the filed export paperwork for this IRU.

B. ExHigh, Chune, and Haghighi Send Items to the United States for Repair

The Respondents' scheme also included several attempts to send items, on behalf of Ural, to the United States for repair and return to Ural. Such actions are in violation of the terms of the TDO issued against Ural, and furthermore, are in violation of sections 764.2(e) and/or 764.2(k) of the Regulations.

On or about July 26, 2023, OEE's investigation revealed information regarding a suspicious transaction between U.S. Company 1 and ExHigh. U.S. Company 1 received an Engine Control Unit (“ECU”) from ExHigh along with letters from Chune which stated that the ECU was owned by Airline 1. U.S. Company 1 transferred the ECU to the Original Equipment Manufacturer (“OEM”) for repair. After tracing the ECU, the OEM determined that the ECU was originally sold to Ural and installed on an Airbus A321 NEO aircraft with a tail number matching an Ural aircraft. The OEM also noted that the ECU is classified under ECCN 9A991. Airline 1 confirmed that the ECU did not belong to them, and that the letters provided by Chune were fraudulent. On or about October 27, 2023, OEE seized the ECU pursuant to a court order.

On or about August 29, 2023, OEE determined that ExHigh had shipped an IRU, classified under ECCN 7A103, to U.S. Company 2 for replacement due to apparent mechanical failure. According to the failure report, the IRU purportedly belonged to Airline 2, an airline located in Kenya. OEE researched the relevant BIS license for this IRU and found no EEI for its export, indicating that the IRU had been previously smuggled out of the United States. When U.S. Company 2 confronted ExHigh regarding this discrepancy, Chune provided another failure report purportedly belonging to a Kenyan airline. OEE determined that this failure report was falsified by Haghighi and was in fact printed and modified from a Russian database belonging to Ural. OEE assesses that the IRU was used by Ural and that the Respondents took steps to conceal this fact from U.S. Company 2 and evade detection by U.S law enforcement.

On or about October 30, 2023, ExHigh returned another ECU to the United States for repair on behalf of Ural in violation of the terms of its TDO. The U.S. manufacturer of the ECU traced the serial number of the item and determined that it belonged to a Ural aircraft. Pursuant to a court-authorized seizure warrant issued in the Southern District of Florida, FBI and OEE agents seized the ECU.

C. Ongoing and Pending Exports

As detailed in OEE's request and related information, the Respondents continue to engage in prohibited conduct. ExHigh continues to place orders for the export of controlled items, including IRUs, with companies located throughout the United States. Some of these U.S. companies have been in contact with OEE regarding the red flags that have arisen in their proposed transactions with ExHigh. Specifically, on or about August 6, 2024, ExHigh attempted to purchase IRUs classified under ECCN 7A103 from a U.S. company located in Texas. OEE believes it is likely that this item would be diverted to Russia, contrary to the Regulations.

Furthermore, on or about January 9, 2025, ExHigh was the ultimate consignee for the export of an IRU from a company located in Iowa. Upon further investigation, OEE determined that the exported item was falsely declared as ECCN 9A991 and declared as not requiring a license for export. The correct classification of the item, according to the U.S. exporter, was ECCN 7A103.

By underreporting the values of exports, falsely reporting exports as not requiring licenses, and falsely reporting the final destination of the exports, Respondents have repeatedly provided falsified documents to U.S. freight forwarders to avoid the EEI filing requirement or otherwise cause a false or misleading EEI filing for their export transactions. Respondents have thus demonstrated a willingness to openly deceive U.S. businesses and OEE investigators through the provision of false or misleading information on BIS export license applications and in routed export transactions. Even after repeated contacts and multiple seizures from OEE conducted with the assistance of other federal law enforcement, Respondents' behavior has continued. The issuance of a TDO will assist in preventing an imminent violation of the Regulations relating to Respondents' continued attempts to procure and divert controlled items from U.S. companies and evade the requirements of the Regulations.

III. Findings

Under the applicable standard set forth in section 766.24 of the Regulations and my review of the entire record, I find that the evidence presented by BIS convincingly demonstrates that the Respondents have acted in violation of the Regulations; that such violations have been significant and deliberate; and that given the foregoing and the nature of the matters under investigation, there is a likelihood of imminent violations. Therefore, the TDO is necessary in the public interest to prevent imminent violation of the Regulations and to give notice to companies and individuals in the United States and abroad that they should avoid dealing with the Respondents, in connection with export and reexport transactions involving items subject to the Regulations and in connection with any other activity subject to the Regulations.

IV. Order

It is therefore ordered:

First, ExHigh Air Space Ltd., Wilson Airport, United Complex, Third Floor Suite 1, Nairobi, Kenya; Geoffrey Chune Omariba, Wilson Airport, United Complex, Third Floor Suite 1, Nairobi, Kenya; and Nader Ali Saboori Haghighi, Dalmatinska 65, Belgrade, Serbia, when acting for or on their behalf, any successors or assigns, agents, or employees (each a “Denied Person” and collectively the “Denied Persons”) may not, directly or indirectly, participate in any way in any transaction involving any commodity, software, or technology (hereinafter collectively referred to as “item”) exported or to be exported from the United States that is subject to the EAR, or in any other activity subject to the EAR including, but not limited to:

A. Applying for, obtaining, or using any license (except directly related to safety of flight), license exception, or export control document;

B. Carrying on negotiations concerning, or ordering, buying, receiving, using, selling, delivering, storing, disposing of, forwarding, transporting, financing, or otherwise servicing in any way, any transaction involving any item exported or to be exported from the United States that is subject to the EAR except directly related to safety of flight and authorized by BIS pursuant to section 764.3(a)(2) of the Regulations, or engaging in any other activity subject to the EAR except directly related to safety of flight and authorized by BIS pursuant to section 764.3(a)(2) of the Regulations; or

C. Benefitting in any way from any transaction involving any item exported or to be exported from the United States that is subject to the EAR, or from any other activity subject to the EAR except directly related to safety of flight and authorized by BIS pursuant to section 764.3(a)(2) of the Regulations.

Second, that no person may, directly or indirectly, do any of the following:

A. Export, reexport, or transfer (in-country) to or on behalf of a Denied Person any item subject to the EAR except directly related to safety of flight and authorized by BIS pursuant to section 764.3(a)(2) of the Regulations;

B. Take any action that facilitates the acquisition or attempted acquisition by a Denied Person of the ownership, possession, or control of any item subject to the EAR that has been or will be exported from the United States, including financing or other support activities related to a transaction whereby a Denied Person acquires or attempts to acquire such ownership, possession or control except directly related to safety of flight and authorized by BIS pursuant to section 764.3(a)(2) of the Regulations;

C. Take any action to acquire from or to facilitate the acquisition or attempted acquisition from a Denied Person of any item subject to the EAR that has been exported from the United States except directly related to safety of flight and authorized by BIS pursuant to section 764.3(a)(2) of the Regulations;

D. Obtain from a Denied Person in the United States any item subject to the EAR with knowledge or reason to know that the item will be, or is intended to be, exported from the United States except directly related to safety of flight and authorized by BIS pursuant to section 764.3(a)(2) of the Regulations; or

E. Engage in any transaction to service any item subject to the EAR that has been or will be exported from the United States and which is owned, possessed or controlled by a Denied Person, or service any item, of whatever origin, that is owned, possessed or controlled by a Denied Person if such service involves the use of any item subject to the EAR that has been or will be exported from the United States except directly related to safety of flight and authorized by BIS pursuant to section 764.3(a)(2) of the Regulations. For purposes of this paragraph, servicing means installation, maintenance, repair, modification, or testing.

Third, that, after notice and opportunity for comment as provided in section 766.23 of the EAR, any other person, firm, corporation, or business organization related to ExHigh Air Space Ltd., Geoffrey Chune Omariba, or Nader Ali Saboori Haghighi by ownership, control, position of responsibility, affiliation, or other connection in the conduct of trade or business may also be made subject to the provisions of this Order.

In accordance with the provisions of section 766.24(e) of the EAR, ExHigh Air Space Ltd., Geoffrey Chune Omariba, and/or Nader Ali Saboori Haghighi may, at any time, appeal this Order by filing a full written statement in support of the appeal with the Office of the Administrative Law Judge, U.S. Coast Guard ALJ Docketing Center, 40 South Gay Street, Baltimore, Maryland 21202-4022.

In accordance with the provisions of section 766.24(d) of the EAR, BIS may seek renewal of this Order by filing a written request not later than 20 days before the expiration date. A renewal request may be opposed by ExHigh Air Space Ltd., Geoffrey Chune Omariba, and/or Nader Ali Saboori Haghighi as provided in section 766.24(d), by filing a written submission with the Assistant Secretary of Commerce for Export Enforcement, which must be received not later than seven days before the expiration date of the Order.

A copy of this Order shall be provided to ExHigh Air Space Ltd., Geoffrey Chune Omariba, and Nader Ali Saboori Haghighi and shall be published in the Federal Register.

This Order is effective immediately and shall remain in effect for 180 days.

Dated: March 31, 2025.
John Sonderman,
Performing the Non-Exclusive Functions and Duties of the Assistant Secretary for Export Enforcement.

[FR Doc. 2025-05803 Filed 4-3-25; 8:45 am]

BILLING CODE 3510-DT-P